DEPARTMENT OF HEALTH AND HUMAN SERVICES

Administration for Community Living

[0985-0044]

Agency Information Collection Activities; Submission for OMB Review; the State Plan for Independent Living

AGENCY: Administration for Community Living (ACL), HHS.

ACTION: Notice.

SUMMARY: The Administration for Community Living (ACL) is announcing that the proposed collection of information listed above has been submitted to the Office of Management and Budget (OMB) for review and clearance as required under the Paperwork Reduction Act of 1995. This 30-Day notice collects comments on the information collection requirements related to State Plan for Independent Living (SPIL) (Information Collection Request Rev (ICR Rev)).

DATES: Comments on the information collection request must be submitted electronically by 11:59 p.m. (EST) or postmarked by March 9, 2020.

ADDRESSES: Submit written comments on the collection of information by:

(a) email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC 20201, (202) 795-7606 or OILPPRAComments@acl.hhs.gov.

SUPPLEMENTARY INFORMATION: In compliance with 44 U.S.C. 3507, ACL has submitted the following proposed collection of information to OMB for review and clearance. Legal authority for the State Plan for Independent Living is contained in Chapter 1 of Title VII of the Rehabilitation Act of 1973, as amended by the Workforce Innovation and Opportunity Act ([the Act], Pub. L. 113-128). Section 704 of the Rehabilitation Act requires that, to be eligible to receive financial assistance under Chapter 1, “a State shall submit to the Department, and obtain approval of, a State plan containing such provisions as the Department may require.” The Administration for Community Living's (ACL) approval of the SPIL is required for states to receive federal funding for both the Independent Living Services State grants and Centers for Independent Living programs. Federal statute and regulations require the collection of this information every three years.

The SPIL is jointly developed by the chairperson of the Statewide Independent Living Council and the directors of the centers for independent living in the State, after receiving public input from individuals throughout the State; and signed by the chairperson of the Statewide Independent Living Council, acting on behalf of—and at the direction of—the Council, the director of the designated State entity, and not less than 51 percent of the directors of the centers for independent living in the State. ACL reviews the SPIL for compliance with the Rehabilitation Act and 45 CFR part 1329 and approves it. The SPIL also serves as a primary planning document for continuous monitoring of, and technical assistance to, the state independent living programs to ensure appropriate planning, financial support and coordination, and other assistance to appropriately address, on a statewide basis, needs for the provision of independent living services in the state.

Comments in Response to the 60-Day Federal Register Notice

A notice was published in the Federal Register on August 12, 2019 (Vol. 84, Number 2019-17172; pp. 39854-39855).

ACL received 251 comments during the 60-day public-comment period. To access these comments and ACL responses, please see the attachment.

The proposed form(s) and public comments and ACL responses may be found on the ACL website at https://www.acl.gov/about-acl/public-input.

Estimated Program Burden: ACL estimates the burden of this collection of information as follows: 56 Statewide Independent Living Councils will respond to the requirement for a SPIL every three years. It will take approximately 60 hours for each state's Statewide Independent Living Council to jointly complete the development of the SPIL for a total of approximately 3,360 hours. This estimate is based on amounts of time that Statewide Independent Living Councils have reported that they have spent responding to previous requests for this report. ACL is not requesting any change in the data States are required to submit. As such, there is no change to the estimated reporting burden.

Estimated Annualized Burden Hours
Respondent/data collection activity | Number of respondents | Responses per respondent | Hours per response | Annual burden hours
Statewide Independent Living Councils | 56 | 1 | 60 | 3,360
Total | 56 | 1 | 60 | 3,360

Dated: January 22, 2020.
Mary Lazare,
Principal Deputy Administrator.

[FR Doc. 2020-02497 Filed 2-6-20; 8:45 am]

BILLING CODE 4154-01-P